DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) issued during the period of July 2003.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following case, the investigation revealed that the criteria for eligibility have not been met for the reasons specified.

The investigation revealed that criterion (a)(2)(A)(I.C.) (Increased imports) and (a)(2)(B)(II.B) (No shift in production to a foreign country) have not been met.

TA-W-51,669; The Premcor Refining Group, Inc., a subsidiary of Premcor USA, Hartford, IL

TA-W-51,894; Baldwin Kansa Corp., a wholly owned subsidiary of Baldwin Technology Co., Inc., Emporia, KS

TA-W-51,973; Briggs & Stratton Corp., Die Cast Components Div., Wauwatosa, WI

TA-W-52,043; Congoleum Corp., Mercerville, NJ

TA-W-52,096; Archer Daniels Midland Co., Soybean Div., Fredonia, KS

TA-W-51,682; Little Tikes Commercial Play Systems, a div. of Newell Rubbermaid, Farmington, MO

TA-W-52,055; Advanced Machining, Inc., Newberg, OR

TA-W-52,101; Pearl Baths, Inc., a div. of Maax, Inc., Brooklyn Park, MN

TA-W-52,161; Progressive Screen Engraving, Inc., North Carolina Div., Wadesboro, NC

TA-W-51,983; Smurfit-Stone Container Corp., East Location (7350 Stiles Road), El Paso, TX and West Location (6968 Industrial Ave.), El Paso, TX

The workers firm does not produce an article as required for certification under Section 222 of the Trade Act of 1974.

TA-W-52,018; ICT Group, Inc., Lewiston, ME

TA-W-52,022, A &B; Nortel Networks Corp., Optical Global Technical Assistance Center, Research Triangle Park, NC, Pittsburgh, PA and Centennial, CO

TA-W-52,285; Kinko's, Inc., Mission, KS

TA-W-52,273; Rapidigm, Inc., Pittsburgh, PA

TA-W-52,256; Telco Systems, Inc., a subsidiary of BATM Advanced Communications, Ltd., Foxboro, MA

TA-W-52,246; U.S. Data Source, LLC, Rancho Cucamongo, CA

TA-W-52,181; Electrical Wholesalers, Inc., Sumter, SC

TA-W-52,188; Hewlett Packard, HP Services Americas, former Compaq Computer Corp., Cypress, TX

TA-W-52,290; ACE Supply, Inc., Richmond, IN

TA-W-52,330; Computer Sciences Corp., Dallas, TX

The investigation revealed that criteria (a)(2)(A)(I.A) (no employment declines) have not been met.

TA-W-52,067; Pall Corp., Life Sciences Group, Capsule Department, Ann Arbor, MI

The investigation revealed that criteria (a)(2)(A) (I.C) (Increased imports) and (a)(2)(B) (II.C) (has shifted production to a foreign country) have not been met.

TA-W-51,705; Utica Cutlery Co., Utica, NY

Affirmative Determinations for Worker Adjustment Assistance

The following certifications have been issued; the date following the company name and location of each determination references the impact date for all workers of such determination.

The following certifications have been issued. The requirements of (a)(2)(A) (increased imports) of Section 222 have been met.

TA-W-51,905; Roane Hosiery, Inc., Harriman, TN: May 22, 2002.

TA-W-51,946; Towle Manufacturing Co., North Dighton, MA: June 2, 2002.

TA-W-52,017; Bush Industries, Inc., St. Paul, VA: June 1, 2002.

TA-W-52,023; Trevorton Manufacturing, Inc., Trevorton, PA: June 2, 2002.

TA-W-52,168; TRW Automotive, Occupant Safety Div., Propellant Manufacturing Group, Queen Creek, AZ: June 25, 2002.

TA-W-52,058; Smith Enterprises, Inc., a wholly owned subsidiary of S.E.I., Inc., including leased workers of Elite Resources, Rock Hill, SC: June 13, 2002.

TA-W-52,024; Stitches, Inc., Sunbury, PA: June 2, 2002.

TA-W-52,027; ADC Telecommunications, Inc., Plastic Injection Molding, New Hope, MN: May 13, 2002.

TA-W-52,200; Lea Industries, a div. of LADD Furniture, a subsidiary of La-Z-Boy, Inc., including leased workers of Atwork Personnel Services, Morristown, TN: June 27, 2002.

TA-W-52,228; Harbison-Walker Refractories Co., a subsidiary of Global Industrial Technologies, Inc., Ludington, MI: July 3, 2002.

TA-W-52,249; Paul Schurman Machine, Inc., Ridgefield, WA: July 7, 2002.

TA-W-52,347; Astaros LLC., Dry Valley Mine, Soda Springs, ID: July 15, 2002.

TA-W-52,268; California Cedar Products Co., McCloud, CA

TA-W-52,245; Thomasville Furniture Industries, Inc., Plant H Manufacturing Facility, Winston-Salem, NC: July 3, 2002.

TA-W-52,232; Schas Industries LLC, a subsidiary of Bacou-Dalloz, Wilkesboro, NC: June 27, 2002.

TA-W-52,120; Maine Machine Products Co., South Paris, ME: June 20, 2002.

TA-W-52,118; ORC Plastics, Rostone Facility, a div. of Reunion Industries, Inc., Lafayette, IN: June 20, 2002.

The following certifications have been issued. The requirements of (a)(2)(B) (shift in production) of Section 222 have been met.

TA-W-52,104; Sanmina—SCI Corp., including leased workers of Adecco and Manpower, Augusta, ME: June 19, 2002.

TA-W-52,119; Tweco Products, Inc., a subsidiary of Thermadyne Holdings Corp., Wichita, KS: June 23, 2002.

TA-W-52,141; Broyhill Furniture Industries, Inc., Marion Facility, a wholly owned subsidiary of Furniture Brands International, Inc., Marion, NC: June 15, 2002.

TA-W-52,152; Multilayer Technology (Multek), Inc., a div. of Flextronics International, Roseville, MN: June 25, 2002.

TA-W-52,184; Fishing Vessel (F/V) Partisan, Sitka, AK: June 16, 2002.

TA-W-52,227; Vestshell Vermont, Inc., St. Albans, VT: July 3, 2002.

TA-W-52,271; Kerr-McGee Chemical, LLC, Chemical Div. Mobile Facility, Theodore, AL: June 27, 2002.

TA-W-52,298; Harriet and Henderson Yarns, Inc., Harriet #2 Plant, Henderson, NC: July 11, 2002.

TA-W-52,343; First Technology, Control Devices Div., Standish, ME: July 16, 2002.

TA-W-52,365; Teleflex Automotive, Inc., Van Wert, OH: July 21, 2002.

TA-W-51,911; Telephone Services, Inc., of Florida, a subsidiary of Emerson, Riverview, FL: May 16, 2002.

TA-W-51,923; Sanmina-SCI, Electronics Manufacturing Services Div., Lynchburg, VA: May 19, 2002.

TA-W-52,172 &A; Garan Manufacturing, Marksville, LA and Starkville, MS: June 27, 2002.

TA-W-52,178; Adobe Air, Inc., including leased workers of First Employment Services, Inc., Phoenix, AZ: June 24, 2002.

TA-W-52,199; Cirrus Logic, Austin, TX: June 27, 2002.

TA-W-52,204; Ericsson, Inc., Supply and Distribution Div., including leased workers of Manpower, Lynchburg, VA: June 27, 2002.

TA-W-52,208; Neuville Industries, Inc., Athens Div., Athens, TN: July 1, 2002.

TA-W-52,236; International Wire Group, Inc., a wholly owned subsidiary of Wire Technologies, Inc., Insulated Wire Div., Kendallville, IN: July 2, 2002.

TA-W-52,250; Hi-Tech Plastics, Inc., Cambridge, MD: June 27, 2002.

TA-W-52,266; Dana Corp., Hose and Tubing Products Div., including leased workers of Manpower, Crenshaw, MS: June 25, 2002.

The following certification has been issued. The requirement of upstream supplier to a trade certified primary firm has been met.

TA-W-51,950; Shipley Company, LLC, a subsidiary of Rohm and Haas, Moss Point, MS: May 21, 2002.

TA-W-52,303; The Dow Chemical Co., Cal/Mag Products, Ludington, MI: July 7, 2002.

I hereby certify that the aforementioned determinations were issued during the months of July 2003. Copies of these determinations are available for inspection in Room C-5311, U.S. Department of Labor, 200 Constitution Avenue, NW., Washington, DC 20210 during normal business hours or will be mailed to persons who write to the above address.

Dated: July 28, 2003.
Timothy Sullivan,
Director, Division of Trade Adjustment Assistance.

[FR Doc. 03-20728 Filed 8-13-03; 8:45 am]

BILLING CODE 4510-30-P